DEPARTMENT OF COMMERCE

Foreign-Trade Zones Board

[Docket 45-2004]

Foreign-Trade Zone 208—New London, CT, Application for Subzone, (Pharmaceutical Products), Pfizer, Inc.

An application has been submitted to the Foreign-Trade Zones (FTZ) Board (the Board), by the New London Foreign Trade Zone Commission, grantee of FTZ 208, requesting special-purpose subzone status for the manufacturing facilities of Pfizer, Inc. (Pfizer), in the Groton, Connecticut, area, adjacent to the New London Customs port of entry. The application was submitted pursuant to the provisions of the Foreign-Trade Zones Act, as amended (19 U.S.C. 81a-81u), and the regulations of the Board (15 CFR part 400). It was formally filed on October 20, 2004.

Pfizer's Groton plant (57 acres) is located at 445 Eastern Point Road, Groton, New London County, Connecticut. The facility (approximately 400 employees) is used for the manufacture, processing, warehousing and distribution of pharmaceuticals, as well as for research and development activities. Pfizer will use zone procedures at the Groton plant to purify selamectin (HTSUS 2932.29.5050), a pharmaceutical ingredient used in the manufacture of the animal health care product Revolution (TM), a topical parasiticide for dogs and cats (HTSUS 3004.90.9103). The activity related to selamectin also involves the use of hydroxylamine (HTSUS 2928.00.5000). Selamectin is currently sourced from the United Kingdom, while hydroxylamine is sourced from Germany. The foreign-sourced chemicals will account for most of the material value of the finished product.

Zone procedures would exempt Pfizer from Customs duty payments on foreign input when used in production for export (some 33 percent of production). On domestic shipments, the processing of selamectin at the Groton plant would not affect the classification or duty rate of selamectin. The company plans to ship the product to another FTZ plant for final processing, at which time Pfizer would be able to choose the lower duty rate (duty free) that applies to the finished product, rather than the duty rates on the foreign-sourced inputs listed above. The duty rates on the foreign-sourced inputs range from 3.7 percent to 6.5 percent. The request indicates that the savings from utilizing FTZ procedures would help improve the plant's international competitiveness.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-Suite 4100W, 1401 Constitution Avenue, NW., Washington, DC 20230.

The closing period for their receipt is [December 19, 2004]. Rebuttal comments in response to material submitted during the foregoing period may be submitted during the subsequent 15-day period (to [January 4, 2005]).

A copy of the application and accompanying exhibits will be available during this time for public inspection at the address Number 1 listed above, and at the City of New London's Office of Development & Planning, 111 Union Street, New London, CT 06320.

Dated: October 20, 2004.
Dennis Puccinelli,
Executive Secretary.

[FR Doc. 04-23956 Filed 10-25-04; 8:45 am]

BILLING CODE 3510-DS-P